DEPARTMENT OF ENERGY

Federal Energy Regulatory Commission

Combined Notice of Filings #1

Take notice that the Commission received the following electric corporate filings:

Docket Numbers: EC16-117-000.

Applicants: Northern States Power Company, a Wisconsin corporation.

Description: Supplement to May 10, 2016 Application of Northern States Power Company, a Wisconsin corporation for Authorization under FPA Section 203 to Acquire Jurisdictional Assets.

Filed Date: 7/13/16.

Accession Number: 20160713-5137.

Comments Due: 5 p.m. ET 7/27/16.

Docket Numbers: EC16-150-000.

Applicants: Agera Energy LLC, energy.me midwest llc, Aequitas Energy, Inc.

Description: Joint Application for Authorization Under Section 203 of the Federal Power Act and Request for Confidential Treatment of Agera Energy LLC, et al.

Filed Date: 7/15/16.

Accession Number: 20160715-5074.

Comments Due: 5 p.m. ET 8/5/16.

Docket Numbers: EC16-151-000.

Applicants: Raven Power Holdings LLC, C/R Energy Jade, LLC, Sapphire Power Holdings LLC, Talen Energy Corporation.

Description: Joint Application of Talen Energy Corporation, et. al., for Approval Pursuant to Section 203 of the Federal Power Act.

Filed Date: 7/15/16.

Accession Number: 20160715-5159.

Comments Due: 5 p.m. ET 8/5/16.

Take notice that the Commission received the following electric rate filings:

Docket Numbers: ER12-281-010.

Applicants: Northampton Generating Company, L.P.

Description: Notice of Non-Material Change in Status [including Pro Forma sheets] of Northampton Generating Company, L.P.

Filed Date: 7/14/16.

Accession Number: 20160714-5170.

Comments Due: 5 p.m. ET 8/4/16.

Docket Numbers: ER12-2570-012; ER13-618-011.

Applicants: Panther Creek Power Operating, LLC, Westwood Generation, LLC.

Description: Notice of Non-Material Change in Status of Panther Creek Power Operating, LLC, et al.

Filed Date: 7/14/16.

Accession Number: 20160714-5121.

Comments Due: 5 p.m. ET 8/4/16.

Docket Numbers: ER15-230-001.

Applicants: GP Energy Management LLC.

Description: Notice of Non-Material Change in Status of GP Energy Management LLC.

Filed Date: 7/14/16.

Accession Number: 20160714-5171.

Comments Due: 5 p.m. ET 8/4/16.

Docket Numbers: ER16-2198-000.

Applicants: Macquarie Energy LLC.

Description: § 205(d) Rate Filing: ME Revised MBR re Locational Exchange to be effective 9/12/2016.

Filed Date: 7/14/16.

Accession Number: 20160714-5115.

Comments Due: 5 p.m. ET 8/4/16.

Docket Numbers: ER16-2199-000.

Applicants: Entergy Arkansas, Inc.

Description: § 205(d) Rate Filing: MSS-4 Replacement Tariff Compliance to be effective 1/1/2016.

Filed Date: 7/14/16.

Accession Number: 20160714-5116.

Comments Due: 5 p.m. ET 8/4/16.

Docket Numbers: ER16-2201-000.

Applicants: Antelope DSR 1, LLC.

Description: Baseline eTariff Filing: Antelope DSR 1, LLC MBR Tariff to be effective 7/16/2016.

Filed Date: 7/15/16.

Accession Number: 20160715-5046.

Comments Due: 5 p.m. ET 8/5/16.

Docket Numbers: ER16-2204-000.

Applicants: PJM Interconnection, L.L.C.

Description: § 205(d) Rate Filing: Original ISA No. 4493, Queue No. AB1-096 to be effective 6/17/2016.

Filed Date: 7/15/16.

Accession Number: 20160715-5106.

Comments Due: 5 p.m. ET 8/5/16.

Docket Numbers: ER16-2205-000.

Applicants: Southern California Edison Company.

Description: § 205(d) Rate Filing: GIA & DSA Mirasol Development LLC Mirasol Murrieta 1 Project to be effective 7/16/2016.

Filed Date: 7/15/16.

Accession Number: 20160715-5109.

Comments Due: 5 p.m. ET 8/5/16.

Docket Numbers: ER16-2206-000.

Applicants: Southern California Edison Company.

Description: § 205(d) Rate Filing: First Amended SGIA and DSA for the SEPV Sierra Solar Project to be effective 7/16/2016.

Filed Date: 7/15/16.

Accession Number: 20160715-5117.

Comments Due: 5 p.m. ET 8/5/16.

Docket Numbers: ER16-2210-000.

Applicants: Southern California Edison Company.

Description: § 205(d) Rate Filing: SGIA and Service Agreement for Division Solar Project to be effective 7/16/2016.

Filed Date: 7/15/16.

Accession Number: 20160715-5124.

Comments Due: 5 p.m. ET 8/5/16.

Docket Numbers: ER16-2211-000.

Applicants: Wisconsin Electric Power Company.

Description: § 205(d) Rate Filing: Wisconsin Electric FERC Electric Tariff Volume No. 9-2016 to be effective 9/13/2016.

Filed Date: 7/15/16.

Accession Number: 20160715-5135.

Comments Due: 5 p.m. ET 8/5/16.

Docket Numbers: ER16-2212-000.

Applicants: Brandon Shores LLC.

Description: Compliance filing: Market-Based Rate Filing to be effective 9/13/2016.

Filed Date: 7/15/16.

Accession Number: 20160715-5155.

Comments Due: 5 p.m. ET 8/5/16.

Docket Numbers: ER16-2213-000.

Applicants: H.A. Wagner LLC.

Description: Compliance filing: Market-Based Rate Tariff Filing to be effective 9/13/2016.

Filed Date: 7/15/16.

Accession Number: 20160715-5157.

Comments Due: 5 p.m. ET 8/5/16.

Docket Numbers: ER16-2214-000.

Applicants: Pedricktown Cogeneration Company LP.

Description: Compliance filing: Market Based Rate Tariff Filing to be effective 9/13/2016.

Filed Date: 7/15/16.

Accession Number: 20160715-5158.

Comments Due: 5 p.m. ET 8/5/16.

Docket Numbers: ER16-2215-000.

Applicants: ISO New England Inc.

Description: Permanent De-List Bids and Retirement De-List Bids submitted for 2020-21 Forward Capacity Auction of ISO New England Inc.

Filed Date: 7/15/16.

Accession Number: 20160715-5161.

Comments Due: 5 p.m. ET 8/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2016.
Nathaniel J. Davis, Sr.,
Deputy Secretary.

[FR Doc. 2016-17524 Filed 7-25-16; 8:45 am]

BILLING CODE 6717-01-P